DEPARTMENT OF COMMERCE

International Trade Administration

[Docket No. A-580-809]

Circular Welded Non-Alloy Steel Pipe from the Republic of Korea; Notice of Extension of Time Limit for Preliminary Results and Partial Rescission of Antidumping Administrative Review

AGENCY: Import Administration, International Trade Administration, Department of Commerce.

ACTION: Notice of Extension of Time Limit for Preliminary Results and Partial Rescission of Administrative Review.

SUMMARY: The Department of Commerce is extending the time limit for the preliminary results of the seventh administrative review of the antidumping duty order on circular welded non-alloy steel pipe from the Republic of Korea. The period of review is November 1, 1998, through October 31, 1999. This extension is made pursuant to section 751(a)(3)(A) of the Tariff Act of 1930, as amended by the Uruguay Round Agreements Act. We are also rescinding the review, in part, in accordance with 19 CFR 351.213(d)(3).

EFFECTIVE DATE: July 18, 2000.

FOR FURTHER INFORMATION CONTACT: Cynthia Thirumalai or Gregory Campbell, Office 1, Import Administration, International Trade Administration, U.S. Department of Commerce, 14th Street and Constitution Avenue, NW., Washington DC 20230; telephone (202) 482-4087 or 482-2239, respectively.

The Applicable Statute and Regulations

Unless otherwise indicated, all citations to the statute are references to the provisions effective January 1, 1995, the effective date of the amendments made to the Tariff Act of 1930 (the Act) by the Uruguay Round Agreements Act (URAA). In addition, unless otherwise indicated, all citations to the Department of Commerce's (the Department's) regulations refer to the regulations codified at 19 CFR Part 351, April 1999.

Extension of Time Limit for Preliminary Results

Due to the number of companies involved, the large number of transactions and the significance of outstanding issues, it is not practicable to complete this review within the time limit currently mandated (i.e., August 1, 2000). Therefore, in accordance with section 751(a)(3)(A) of the Act, the Department is extending the time limit for completion of the preliminary results to not later than October 6, 2000.

Partial Rescission of Review

On November 30, 1999, Allied Tube and Conduit Corporation, Sawhill Tubular Division-Armco, Inc., and Wheatland Tube Company (the petitioners) requested a review of, inter alios, Korea Iron and Steel Company, Ltd (KISCO). As a result, an administrative review including KISCO was initiated on December 28, 1999, (see, Initiation of Antidumping and Countervailing Duty Administrative Reviews, 64 FR 72644 (December 28, 1999)). KISCQ did not separately request a review.

On June 15, 2000, the petitioners withdrew their request for a review of KISCO. Section 351.213(d)(1) of our regulations states that:

The Secretary will rescind an administrative review under this section, in whole or in part, if a party that requested a review withdraws the request within 90 days of the date of the publication of notice of initiation of the requested review.

Section 351.213(d)(1) of our regulations further provides that we may extend that deadline, and it is our practice to do so, where it is reasonable, i.e., where the Department has not expended considerable time and resources, and where it does not appear that the procedures are being abused. See, e.g., Fresh Kiwifruit From New Zealand: Initiation and Preliminary Results of Changed Circumstances Review and Intent To Revoke Order, and Rescission of Antidumping Duty Administrative Review, 64 FR 45508 45509 (August 20, 1999); see also, Antidumping Duties; Countervailing Duties; Final Rule, 62 FR 27296, 27317 (May 19, 1997). In this review, the petitioners withdrew their request for review after the 90-day deadline. However, since the petitioners' withdrawal was made before the review had progressed beyond a point where it would be unreasonable to rescind, and because KISCO supports the petitioners' request for withdrawal, we find that rescinding the review with respect to KISCO would not prejudice any party to the proceeding and would, therefore, be reasonable. See, e.g., Glycine From the People's Republic of China; Notice of Rescission of Antidumping Duty Administrative Review, 63 FR 54406 56607 (October 22, 1998). Therefore, in accordance with section 351.213(d)(1) of our regulations, we have rescinded the review with respect to KISCO (see, Memorandum to Susan Kuhbach of June 27, 2000 on Partial Rescission of Administrative Review).

This notice is in accordance with section 751(a)(1) of the Act (19 U.S.C. 1675(a)(1)) and 19 CFR 351.213(h)(2).

Dated: July 11, 2000.
Richard W. Moreland,
Deputy Assistant Secretary for AD/CVD Enforcement.

[FR Doc. 00-18121 Filed 7-17-00; 8:45 am]

BILLING CODE 3510-DS-M